DEPARTMENT OF COMMERCE

International Trade Administration

[A-583-856]

Certain Corrosion-Resistant Steel Products From Taiwan: Amended Final Results of Antidumping Duty Administrative Review; 2020-2021

AGENCY: Enforcement and Compliance, International Trade Administration, Department of Commerce.

SUMMARY: The U.S. Department of Commerce (Commerce) is amending the final results of the administrative review of the antidumping duty order on certain corrosion-resistant steel products (CORE) from Taiwan to correct certain ministerial errors. The period of review is July 1, 2020, through June 30, 2021.

DATES: Applicable March 6, 2023.

FOR FURTHER INFORMATION CONTACT: Patrick Barton or Matthew Palmer, AD/CVD Operations, Office III, Enforcement and Compliance, International Trade Administration, U.S. Department of Commerce, 1401 Constitution Avenue NW, Washington, DC 20230; telephone: (202) 482-0012 or (202) 482-1678, respectively.

SUPPLEMENTARY INFORMATION:

Background

On February 3, 2023, the Commerce published its Final Results of the 2020-2021 administrative review of the antidumping duty order on CORE from Taiwan.¹ On February 2, 2023, Commerce disclosed its calculations to interested parties and provided interested parties with the opportunity to submit ministerial error comments.² On February 7, 2023, Cleveland-Cliffs Inc. (the petitioner), timely submitted ministerial error comments regarding Commerce's Final Results.³ On February 10, 2023, Prosperity Tieh Enterprise, Co., Ltd. (Prosperity), a mandatory respondent in this administrative review, timely submitted ministerial error comments regarding Commerce's Final Results.⁴ Commerce is amending its Final Results to correct certain ministerial errors alleged by the petitioner.

¹ See Certain Corrosion-Resistant Steel Products from Taiwan: Final Results of Antidumping Duty Administrative Review and Final Determination of No Shipments; 2020-2021, 88 FR 7408 (February 3, 2023) (Final Results), and accompanying Issues and Decision Memorandum.

² See Memorandum, “Deadline for Ministerial Error Comments for the Final Results,” dated February 2, 2023.

³ See Petitioner's Letter, “Certain Corrosion-Resistant Steel Products from Taiwan: Petitioner's Ministerial Error Comments,” dated February 7, 2023.

⁴ See Prosperity's Letter, “Corrosion-Resistant Steel Products from Taiwan, 7/1/2020-6/30/2021 Administrative Review, Case No. A-583-856: Ministerial Error Comments,” dated February 10, 2023.

Legal Framework

A ministerial error, as defined in section 751(h) of the Tariff Act of 1930, as amended (the Act), includes “errors in addition, subtraction, or other arithmetic function, clerical errors resulting from inaccurate copying, duplication, or the like, and any other type of unintentional error which the {Commerce} considers ministerial.” ⁵ With respect to final results of administrative reviews, 19 CFR 351.224(e) provides that Commerce “will analyze any comments received and, if appropriate, correct any ministerial error by amending . . . the final results of review . . . .”

⁵ See 19 CFR 351.224(f).

Ministerial Errors

In the final results of the review, Commerce made inadvertent errors within the meaning of section 751(h) of the Act and 19 CFR 351.224(f) with respect to the calculation of Prosperity's and Yieh Phui Enterprise Co., Ltd.'s (Yieh Phui) weighted-average costs and actual production quantities. Accordingly, Commerce determines that, in accordance with section 751(h) of the Act and 19 CFR 351.224(f), it made certain ministerial errors in the Final Results.

For a complete description and analysis of the specific inadvertent errors, and the petitioner's and Prosperity's ministerial error allegations, please see the accompanying Ministerial Error Allegations Memorandum.⁶ The Ministerial Error Allegations Memorandum is a public document and is on file electronically via Enforcement and Compliance's Antidumping and Countervailing Duty Centralized Electronic Service System (ACCESS). ACCESS is available to registered users at https://access.trade.gov.

⁶ See Memorandum, “Ministerial Error Allegations,” dated concurrently with this notice (Ministerial Error Allegations Memorandum).

Pursuant to 19 CFR 351.224(e), Commerce is amending the Final Results to reflect the correction of these ministerial errors in the calculation of the weighted-average dumping margins assigned to Prosperity and Yieh Phui in the Final Results, which change from 3.64 and 2.88 percent, respectively, to 3.74 and 4.89 percent, respectively.⁷ Furthermore, we are revising the review-specific, weighted-average dumping margin applicable to the company not selected for individual examination (i.e., Sheng Yu Steel Co., Ltd. (Sheng Yu)) in this administrative review, which is based on Prosperity's and Yieh Phui's weighted-average dumping margins.⁸ We calculated Sheng Yu's weighted-average dumping margin as the weighted average of the weighted-average dumping margins determined for the two mandatory respondents where the weights are the publicly ranged quantities sold by each of the mandatory respondents.

⁷ Id.; see also Final Results, 88 FR at 7409.

⁸ In the case of two mandatory respondents, our practice is to calculate: (A) a weighted average of the dumping margins calculated for the mandatory respondents; (B) a simple average of the dumping margins calculated for the mandatory respondents; and (C) a weighted average of the dumping margins calculated for the mandatory respondents using each company's publicly ranged values for the merchandise under consideration. We compare (B) and (C) to (A) and select the rate closest to (A) as the most appropriate rate for all other companies. See Certain Crystalline Silicon Photovoltaic Products from Taiwan: Final Results of Antidumping Duty Administrative Review; 2014-2016, 82 FR 31555, 31556 (July 7, 2017). We have applied that practice here. See Memorandum, “Calculation of the All-Others' Rate in the Amended Final Results,” dated concurrently with this notice.

Amended Final Results of Review

As a result of correcting these ministerial errors, Commerce determines that, for the period of July 1, 2020, through June 30, 2021, the following weighted-average dumping margins exist:

Exporter or producer | Weighted- average dumping margin (percent)
Prosperity Tieh Enterprise Co., Ltd | 3.74
Sheng Yu Steel Co., Ltd | 4.14
Yieh Phui Enterprise Co., Ltd | 4.89

Disclosure

We intend to disclose the calculations performed for these amended final results to parties in this review within five days of the date of publication of this notice in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with these amended final results of the administrative review.

In accordance with 19 CFR 351.212(b)(1), we calculated importer-specific ad valorem antidumping duty assessment rates based on the ratio of the total amount of dumping calculated for the examined sales for each importer to the total entered value of the sales for each importer. Where an importer-specific antidumping duty assessment rate is zero or de minimis within the meaning of 19 CFR 351.106(c)(1), Commerce will instruct CBP to liquidate the appropriate entries without regard to antidumping duties. Commerce's “automatic assessment” will apply to entries of subject merchandise during the period of review produced by companies included in these amended final results of review for which the reviewed companies did not know that the merchandise they sold to the intermediary (e.g., a reseller, trading company, or exporter) was destined for the United States. In such instances, we will instruct CBP to liquidate unreviewed entries at the all-others rate if there is no rate for the intermediate company(ies) involved in the transaction.

For the companies which were not selected for individual examination, we will instruct CBP to assess antidumping duties at an ad valorem assessment rate equal to the weighted- average dumping margins determined in these amended final results. The amended final results of this review shall be the basis for the assessment of antidumping duties on entries of merchandise covered by the amended final results of this review and for future deposits of estimated duties, where applicable.⁹

⁹ See section 751(a)(2)(C) of the Act.

Normally, Commerce would issue appropriate assessment instructions to CBP 35 days after the date of publication of the amended final results of this review in the Federal Register, to liquidate shipments of subject merchandise produced and exported by Yieh Phui entered, or withdrawn from warehouse, for consumption during the July 1, 2020 through June 30, 2021 period of review. However, on February 15, 2023, the U.S. Court of International Trade (the Court) enjoined liquidation of entries produced and exported by Yieh Phui, that are subject to the Final Results.¹⁰ Accordingly, Commerce will not instruct CBP to assess antidumping duties on those enjoined entries pending resolution of the associated liquidation.

¹⁰ The Court issued a statutory injunction under CIT case number 16-00138 (April 8, 2020).

For Prosperity and Sheng Yu, Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective retroactively for all shipments of subject merchandise that entered, or were withdrawn from warehouse, for consumption on or after February 3, 2023, the date of publication of the Final Results of this administrative review, as provided for by section 751(a)(2)(C) of the Act: (1) the cash deposit rate for the companies listed above will be equal to the weighted-average dumping margin established in these amended final results of review; (2) for producers or exporters not covered in this review but covered in a prior segment of the proceeding, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 3.66 percent established in the less-than-fair-value investigation.¹¹ These cash deposit requirements, when imposed, shall remain in effect until further notice.

¹¹ See Corrosion-Resistant Steel Products from Taiwan: Notice of Court Decision Not in Harmony with Final Determination of Antidumping Duty Investigation and Notice of Amended Final Determination of Investigation, 84 FR 6129 (February 26, 2019).

Notification to Importers

This notice also serves as a final reminder to importers of their responsibility under 19 CFR 351.402(f)(2) to file a certificate regarding the reimbursement of antidumping duties prior to liquidation of the relevant entries during this POR. Failure to comply with this requirement could result in the Commerce's presumption that reimbursement of antidumping duties occurred and the subsequent assessment of double antidumping duties.

Administrative Protective Order

This notice also serves as a reminder to parties subject to an administrative protective order (APO) of their responsibility concerning the disposition of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

The amended final results and notice are issued and published in accordance with sections 751(h) and 777(i) of the Act and 19 CFR 351.224(e).

Dated: February 28, 2023.
Abdelali Elouaradia,
Deputy Assistant Secretary for Enforcement and Compliance.

[FR Doc. 2023-04498 Filed 3-3-23; 8:45 am]

BILLING CODE 3510-DS-P